DEPARTMENT OF ENERGY

Federal Energy Regulatory Commission

[Docket No. EC00-92-000]

Nevada Sun-Peak Limited Partnership and Sun-Peak Power, LLC; Notice of Filing

May 22, 2000.

Take notice that on May 17, 2000, Nevada Sun-Peak Limited Partnership and Sun-Peak Power, LLC (Applicants) filed with the Federal Energy Regulatory Commission pursuant to Section 203 of the Federal Power Act, 16 U.S.C. 824b, and Part 33 of the Commission's regulations, a joint Application requesting that the Commission approve the transaction by which Sun-Peak Power, LLC will acquire general and limited partnership interests in Nevada Sun-Peak Limited Partnership, and a request for expedited consideration. Pursuant to 18 CFR 388.112, Applicants request confidential treatment of Exhibit H to the Application.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before June 16, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-13222 Filed 5-25-00; 8:45 am]

BILLING CODE 6717-01-M